DEPARTMENT OF JUSTICE

Antitrust Division

Notice Pursuant to the National Cooperative Research and Production Act of 1993—National Chemical & Biological Defense Consortium

Notice is hereby given that, on November 13, 2015, pursuant to section 6(a) of the National Cooperative Research and Production Act of 1993, 15 U.S.C. 4301 et seq. (“the Act”), National Chemical & Biological Defense Consortium (“NCBDC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: AbViro LLC, Bethesda, MD; Advanced Nuclear Devices Corporation, Hilton Head Island, SC; Aequor, Inc., Oceanside, CA; Aeterna Zentaris, Québec, CANADA; AIBiotech, Richmond, VA; Allied Technologies & Consulting, LLC, Frederick, MD; AMH Consulting, Potomac, MD; AntibioTx ApS, Hørsholm, DENMARK; Approach Robotics, Ridgecrest, CA; Aradigm Corporation, Hayward, CA; Artificial Cell Technologies, Inc., New Haven, CT; BalinBac Therapeutics, Inc., Princeton, NJ; Battelle Memorial Institute, Columbus, OH; BioFactura, Inc., Frederick, MD; BioStat Solutions, Inc., Frederick, MD; Burrell International Group, LLC, Frederick, MD; CACI, Arlington, VA; CFD Research Corporation, Huntsville, AL; CONTINUUS Pharmaceuticals, Inc., Woburn, MA; Creare LLC, Hanover, NH; CSC Government Solutions LLC, Falls Church, VA; CUBRC, Inc., Buffalo, NY; DALI Medical Devices Ltd., Yavne, ISRAEL; Design West Technologies Inc., Tustin, CA; Draper Laboratory, Cambridge, MA; Eagle Applied Science, San Antonio, TX; Emergent, Inc., North Charleston, SC; Equivital Inc., New York, NY; EZ-A Consulting, LLC, Bel Air, MD; First Line Technology, Chantilly, VA; General Dynamics Information Technology, San Diego, CA; GeoVax Labs, Inc., Smyrna, GA; Ginkgo BioWorks, Boston, MA; Goldbelt Raven, LLC, Herndon, VA; Hackensack University Medical Center, Hackensack, NJ; iBio, Inc., New York, NY; IIT Research Institute, Chicago, IL; Immune Biosolutions, Inc., Québec, CANADA; Inficon, East Syracuse, NY; Integrated BioTherapeutics, Inc., Gaithersburg, MD; InvivoSciences Inc., Madison, WI; Jade Therapeutics, Inc., Salt Lake City, UT; JRAD, Stafford, VA; KD Analytical, Harrisburg, PA; Kestrel Corporation, Albuquerque, NM; Kinnear Pharmaceuticals, LLC, Columbus, OH; Kiyatec, Greenville, SC; L-3 Communications, New York, NY; Latham BioPharm Group, Inc., Maynard, MA; Luminex Corporation, Austin, TX; MainStream Global Solutions, Robins, IA; Mapp Biopharmaceutical, Inc., San Diego, CA; MaxCyte, Inc., Gaithersburg, MD; Med-Ally, Canton, CT; MedPro Technologies, LLC, San Antonio, TX; Mesa Science Associates Inc., Frederick, MD; Michael T. Brown Consulting, LLC, Austin, TX; Microbial Robotics, LLC, Covington, KY; Mike Sellers & Associates, Beavercreek, OH; MLT Systems, Stafford, VA; MRI Global, Kansas City, MO; Nanotherapeutics, Inc., Alachua, FL; New York Blood Center Inc., New York, NY; Novici Biotech LLC, Vacaville, CA; Novozymes, Inc., Franklinton, NC; OrPro Therapeutics, Inc., San Diego, CA; Parsons, Washington, DC; Pertexa, Ridgecrest, CA; Philips, Foster City, CA; PrEP Biopharm, Rumson, NJ; Purdue University, West Lafayette, IN; QuickSilver Analytics, Belcamp, MD; Quintiles, Durham, NC; Rapid Pathogen Screening, Inc. (RPS), Sarasota, FL; Recursion Pharmaceuticals, Salt Lake City, UT; RTI International, Coraopolis, PA; San Diego State University, San Diego, CA; Science Applications International Corporation, McLean, VA; SciTech Services Inc., Havre De Grace, MD; Shield Analysis Technology, LLC, Manassas, VA; SIGA Technologies, Inc., New York, NY; Signature Science, Austin, TX; Smart Consulting Group, LLC, West Chester, PA; Southern Research Institute, Birmingham, AL; Southwest Research Institute, San Antonio, TX; Spero Therapeutics, Cambridge, MA; SRI International, Princeton, NJ; Strategic Solutions Integrated, Arlington, VA; TDA Research, Inc., Wheat Ridge, CO; Tetracore, Inc., Rockville, MD; Texas A&M, Bryan, TX; TheraSource LLC, Roslyn, NY; Trideum, Huntsville, AL; TriLink BioTechnologies, San Diego, CA; Ubiquitome Limited, Auckland, NEW ZEALAND; University of Florida Institute for Therapeutic Innovation, Gainesville, FL; University of Nebraska Medical Center—Department of Pathology and Microbiology, Omaha, NE; University of North Texas Health Sciences Center, Fort Worth, TX; University of Pittsburgh—Center for Military Medicine Research, Pittsburgh, PA; and Vaxess Technologies, Inc., Cambridge, MA. The general area of NCBDC's planned activity is advanced development efforts to support the Department of Defense's medical pharmaceutical and diagnostic requirements as related to enhancing the mission effectiveness of military personnel through (i) detection—systems and devices to identify CBRN (Chemical Biological Radiological and Nuclear) agents and assist in making medical decisions; (ii) prevention—prophylaxis, pretreatment, and post-exposure prophylaxis; (iii) treatment—therapeutics (post-exposure, post-symptomatic); and (iv) chemical—medical protection against use of chemical agents.

Patricia A. Brink,
Director of Civil Enforcement, Antitrust Division.

[FR Doc. 2015-33266 Filed 1-5-16; 8:45 am]

BILLING CODE P